DEPARTMENT OF ENERGY

Federal Energy Regulatory Commission

[Project No. 13089-002]

Conway Ranch Hydropower Project; Notice of Preliminary Permit Application Accepted for Filing and Soliciting Comments, Motions To Intervene, and Competing Applications

On July 27, 2011, KC LLC, California, filed an application for a preliminary permit, pursuant to section 4(f) of the Federal Power Act (FPA), proposing to study the feasibility of the Conway Ranch Hydropower Project to be located on Virginia Creek, near the city of Mono, Mono County, California. The project affects federal lands administered by the Bureau of Land Management. The sole purpose of a preliminary permit, if issued, is to grant the permit holder priority to file a license application during the permit term. A preliminary permit does not authorize the permit holder to perform any land-disturbing activities or otherwise enter upon lands or waters owned by others without the owners' express permission.

The proposed project would consist of the following new facilities: (1) A diversion on Virginia Creek (notched weir design); (2) a de minimus reservoir operated run-of river at approximately 8,800 feet elevation above mean sea level; (3) a 2-mile-long, 8-inch-diameter pressurized pipe connecting the reservoir to a powerhouse; (4) a powerhouse containing a single turbine totaling 500 kilowatts of generating capacity; and (5) an approximately 360-foot-long transmission line connecting with the existing Southern California Edison secondary distribution facilities. The project's annual energy output would be approximately 2.3 gigawatthours.

Applicant Contact: Ms. Kelly Sackheim, KC LLC, 5096 Cocoa Palm Way, Fair Oaks, CA 95628; phone (301) 401-5978.

FERC Contact: Carolyn Templeton; phone: (202) 502-8785.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13089-002) in the docket number field to access the document. For assistance, contact FERC Online Support.

Dated: January 20, 2012.
Kimberly D. Bose,
Secretary.

[FR Doc. 2012-1734 Filed 1-26-12; 8:45 am]

BILLING CODE 6717-01-P